DEPARTMENT OF TRANSPORTATION

Federal Railroad Administration

[Docket No. FRA-2019-0004-N-13]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before October 21, 2019.

ADDRESSES: Submit written comments on the ICRs activities by mail to either: Ms. Hodan Wells, Information Collection Clearance Officer, Office of Railroad Safety, Regulatory Analysis Division, Federal Railroad Administration, 1200 New Jersey Avenue SE, Washington, DC 20590; or Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to 202-493-6216 or 202-493-6497, or emailed to Ms. Wells at hodan.wells@dot.gov, or Ms. Toone at kim.toone@dot.gov. Please refer to the assigned OMB control number in any correspondence submitted. FRA will summarize comments received in response to this notice in a subsequent notice and include them in its information collection submission to OMB for approval.

FOR FURTHER INFORMATION CONTACT: Ms. Hodan Wells, Information Collection Clearance Officer, Office of Railroad Safety, Regulatory Analysis Division, Federal Railroad Administration, 1200 New Jersey Avenue SE, Washington, DC 20590 (telephone: (202) 493-0440) or Ms. Kim Toone, Information Collection Clearance Officer, Office of Information Technology, Federal Railroad Administration, 1200 New Jersey Avenue SE, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Filing of Dedicated Cars.

OMB Control Number: 2130-0502.

Abstract: Title 49 CFR part 215 contains freight car safety standards, including conditions for freight cars in dedicated service. “Dedicated service” means the exclusive assignment of railroad cars to the transportation of freight between specified points under the conditions listed in 49 CFR 215.5(d), including stenciling, or otherwise displaying, in clear legible letters on each side of the car body, the words ”Dedicated Service.” The railroad must notify FRA in writing that the cars are to be operated in dedicated service.

Type of Request: Extension without change of a currently approved collection.

Affected Public: Businesses.

Form(s): N/A.

Respondent Universe: 746 railroads.

Frequency of Submission: On occasion/monthly.

Reporting Burden:

¹ Throughout the tables in this document, the dollar equivalent cost is derived from the Surface Transportation Board's Full Year Wage A&B data series using the appropriate employee group hourly wage rate that includes 75-percent overhead charges.

CFR section | Respondent universe (railroads) | Total annual responses | Average time per responses | Total annual burden hours | Total cost equivalent ¹
215.5(d)(6)—Dedicated Service—Notification to FRA | 746 railroads | 4 notifications | 1 hour | 4 | $304

Total Estimated Annual Responses: 4.

Total Estimated Annual Burden: 4 hours.

Total Estimated Annual Burden Hour Dollar Cost Equivalent: $304.

Title: Rear End Marking Devices.

OMB Control Number: 2130-0523.

Abstract: Title 49 CFR part 221 contains requirements for rear end marking devices. Railroads must give FRA a detailed description of the type of marking devices used for any locomotive operating singly or for cars or locomotives operating at the end of a train (trailing end) to ensure they meet minimum standards for visibility and display. Specifically, part 221 requires railroads to furnish a certification that each device has been tested in accordance with current “Guidelines for Testing of Rear End Marking Devices.” Additionally, part 221 requires railroads to furnish detailed test records, which include the names of testing organizations, description of tests, number of samples tested, and the test results, to demonstrate compliance with the performance standard.

Type of Request: Extension with change (revised estimates) of a currently approved collection.

Affected Public: Businesses (railroads).

Form(s): N/A.

Respondent Universe: 746 railroads + 24 manufacturers.

Frequency of Submission: On occasion.

Reporting Burden:

CFR section | Respondent universe | Total annual responses | Average time per responses | Total annual burden hours | Total cost equivalent
221.14 and Appendix A—Marking Devices, and Procedures for Approval of Rear End Marking | 746 railroads + 24 manufacturers | 2 requests/submissions | 1 hour | 2 | $152

Total Estimated Annual Responses: 2.

Total Estimated Annual Burden: 2 hours.

Total Estimated Annual Burden Hour Dollar Cost Equivalent: $152.

Title: System Safety Program.

OMB Control Number: 2130-0599.

Abstract: FRA uses the collection of information to ensure that commuter and intercity passenger railroads establish and implement System Safety Programs (SSPs) to improve the safety of their operations and to ensure compliance with the rule. Each railroad will use its SSP/SSP Plan to proactively identify and mitigate or eliminate hazards and the resulting risk on its system at an early stage to reduce the number of railroad accidents, incidents, and associated injuries, fatalities, and property damage. A railroad has the flexibility to tailor an SSP to its specific operations. An SSP will be implemented when FRA approves a railroad's submitted SSP Plan. Under this information collection, FRA will audit a railroad's compliance with its SSP Plan. FRA will use the information to ensure and enforce compliance with this new regulation.

Type of Request: Extension with change (revised estimates) of a currently approved collection.

Affected Public: Businesses (railroads).

Form(s): N/A.

Respondent Universe: 33 railroads.

Frequency of Submission: On occasion/monthly.

Reporting Burden:

CFR section/subject | Respondent universe | Total annual responses | Average time per response | Total annual burden hours | Total annual dollar cost equivalent
270.103—System Safety Program Plan (SSP Plan)—Comprehensive written SSP Plan that meets all of this section's requirements | 33 railroads | 9 plans | 40 hours | 360 | $32,976
—Records of system safety training for employees/contractors/others | 33 railroads | 495 records | 15 seconds | 2 | 152
—(q)(1) Performance of risk-based hazard analyses and furnishing of RR results of risk-based hazard analyses upon request of FRA/participating part 212 States | 33 railroads | 33 analyses results | 20 hours | 660 | 50,160
—(q)(2) Identification and implementation of risk mitigation methods and furnishing of descriptions of RR's specific risk mitigation methods that address hazards upon request of FRA/participating part 212 States | 33 railroads | 33 mitigation methods descriptions | 10 hours | 330 | 25,080
—(r)(1) Performance of technology analysis and furnishing of results of railroad's technology analysis upon request of FRA/participating part 212 States | 33 railroads | 33 results of technology analysis | 10 hours | 330 | 25,080
270.107(a)—Consultation requirements—RR consultation with its directly affected employees on SSP Plan | 33 railroads | 11 consults (w/labor union reps.) | 1 hour | 11 | 836
—(a)(3)(ii) RR notification to directly affected employees of preliminary meeting at least 60 days before being held | 33 railroads | 11 notices | 30 minutes | 6 | 456
—(b) RR consultation statements that includes service list with name & contact information for labor organization chairpersons & non-union employees who participated in process | 33 railroads | 11 statements | 1 hour | 11 | 836
—Copies of consultations statements by RR to service list individuals | 33 railroads | 11 copies | 1 minute | .18 | 14
270.201(b)—SSP Plan found deficient by FRA and requiring amendment | 33 railroads | 4 amended plans | 30 hours | 120 | 9,120
—Review of amended SSP Plan found deficient and requiring further amendment | 33 railroads | 1 further amended plan | 20 hours | 20 | 1,520
—Reopened review of initial SSP Plan approval for cause stated | 33 railroads | 1 amended plan | 30 hours | 30 | 2,280
270.203—Retention of SSP Plans—Retained copies of SSP Plans | 33 railroads | 15 copies | 10 minutes | 3 | 228
270.303—Annual internal SSP assessments/reports conducted by RRs | 33 railroads | 16 evaluations/reports | 2 hours | 32 | 2,432
—Certification of results of RR internal assessment by chief safety official | 33 railroads | 33 certification statements | 2 hours | 66 | 7,590
270.305—External safety audit—RR submission of improvement plans in response to results of FRA audit | 33 railroads | 6 plans | 12 hours | 72 | 8,280
—Improvement plans found deficient by FRA and requiring amendment | 33 railroads | 2 amended plans | 10 hours | 20 | 1,520
—RR status report to FRA of implementation of improvements set forth in the improvement plan | 33 railroads | 2 reports | 4 hours | 8 | 608
Appendix B—Additional documents provided to FRA upon request | 33 railroads | 4 documents | 15 minutes | 1 | 76
Appendix C—Written requests by RRs to file required submissions electronically | 33 railroads | 7 written requests | 15 minutes | 2 | 152
Totals | 33 railroads | 738 replies/responses | N/A | 2,084 | 169,396

Total Estimated Annual Responses: 738.

Total Estimated Annual Burden: 2,084 hours.

Total Estimated Annual Burden Hour Dollar Cost Equivalent: $169,396.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-17995 Filed 8-20-19; 8:45 am]

BILLING CODE 4910-06-P